DEPARTMENT OF DEFENSE

Office of the Secretary

[Transmittal No. 24-06]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-06, Policy Justification, and Sensitivity of Technology.

Dated: January 2, 2025.
Aaron T. Siegel,
Alternate OSD Federal Register Liaison Officer, Department of Defense.

BILLING CODE 6001-FR-P

BILLING CODE 6001-FR-C

Transmittal No. 24-06

Notice of Proposed Issuance of Letter of Offer Pursuant to Section 36(b)(1) of the Arms Export Control Act, as amended

(i) Prospective Purchaser: Government of Poland

(ii) Total Estimated Value:

Major Defense Equipment * | $ 0
Other | $1.2 billion
TOTAL | $1.2 billion

Funding Source: Foreign Military Financing Direct Loan and National Funds

(iii) Description and Quantity or Quantities of Articles or Services under Consideration for Purchase:

Major Defense Equipment (MDE):

None

Non-MDE:

Airspace and Surface Radar Reconnaissance (ASRR) aerostat systems; Airborne Early Warning (AEW) Radars with Identification of Friend or Foe (IFF) capability; electronic intelligence (ELINT) sensors systems; mooring systems with powered tether with embedded fiber optics; Ground Control Systems (GCS); associated installation hardware; special tools and test equipment; Basic Issue Items (BII); program management support; verification testing; systems technical support; transportation; spare and repair parts; communications equipment; operators and maintenance manuals; personnel training and training equipment; tool and test equipment; repair and return; publications and technical documentation; Quality Assurance Team (QAT); U.S. Government and contractor engineering, technical, and logistics support services; in-country Field Service Representatives (FSR); and other related elements of logistics and program support.

(iv) Military Department: Army (PL-B-UET)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: February 7, 2024

* as defined in Section 47(6) of the Arms Export Control Act.

POLICY JUSTIFICATION

Poland—Aerostat Systems

The Government of Poland has requested to buy Airspace and Surface Radar Reconnaissance (ASRR) aerostat systems; Airborne Early Warning (AEW) Radars with Identification of Friend or Foe (IFF) capability; electronic intelligence (ELINT) sensors systems; mooring systems with powered tether with embedded fiber optics; Ground Control Systems (GCS); associated installation hardware; special tools and test equipment; Basic Issue Items (BII); program management support; verification testing; systems technical support; transportation; spare and repair parts; communications equipment; operators and maintenance manuals; personnel training and training equipment; tool and test equipment; repair and return; publications and technical documentation; Quality Assurance Team (QAT); U.S. Government and contractor engineering, technical, and logistics support services; in-country Field Service Representatives (FSR); and other related elements of logistics and program support. The estimated total program cost is $1.2 billion.

The proposed sale will support the foreign policy goals and national security objectives of the United States by improving the security of a NATO Ally that is a force for political stability and economic progress in Europe.

The proposed sale will improve Poland's capability to meet current and future threats of enemy air and ground weapons systems. Poland will use the capability as an airborne early warning system to defend against incoming regional threats. This will also enable Poland to increase its contribution to future NATO operations. Poland will have no difficulty absorbing this equipment into its armed forces.

The proposed sale of this equipment and support will not alter the basic military balance in the region.

The principal contractors will be Raytheon Intelligence and Space, of El Segundo, CA; TCOM, L.P., of Columbia, MD; ELTA North America, of Annapolis Junction, MD; and Avantus Federal LLC (a wholly owned subsidiary of QinetiQ, Inc.), of McLean, VA. There are no known offset agreements proposed in connection with this potential sale.

Implementation of this proposed sale will require forty (40) aerostat contractor representatives to travel to Poland for eighty-four (84) months to conduct the Contractor Logistics Support, training, and component assembly support.

There will be no adverse impact on U.S. defense readiness as a result of this proposed sale.

Transmittal No. 24-06

Notice of Proposed Issuance of Letter of Offer Pursuant to Section 36(b)(1) of the Arms Export Control Act

Annex

Item No. vii

(vii) Sensitivity of Technology:

1. The Airspace and Surface Radar Reconnaissance (ASRR) system is a tethered aerostat system capable of supporting a variety of surveillance payloads. It incorporates a tethered aerostat with a relocatable mooring system capable of supporting payloads up to 7,000 lbs at altitudes up to 15,000 ft, which provides surveillance systems with a line of sight of up to 350km. In addition to the aerostat, each system includes a mobile mooring system, ground control and maintenance shelters, electrical generators and power distribution panel, forklift and man lift, and supply of helium and spare parts. The program will also include system training, maintenance, and in-country support services. Each of the four (4) aerostats will carry a payload consisting of one (1) radar system and one (1) electronic surveillance electronic intelligence (ELINT) sensor system with integrated Identify Friend or Foe (IFF) capability.

a. Radar System. The radar system will include one of the following: ETLA North America ELM-2083, Raytheon KnightWatch, or C-Speed ESR-LWR Radar. These systems comprise of a multi-function radar capable of providing long-range detection of airborne and maritime targets that are static or in motion. The systems can operate in overland, maritime, and air-to-air modes. They display Moving Target Indicator (MTI) tracks overlaid on a Doppler Beam Sharpened (DBS) image. The systems can switch between vertically and horizontally orientated antennas and incorporate an IFF capability of one of the following: Raytheon APX-119, TPX-62, and AS-4664 electronically scanned array (ESA) antennas or Telephonics SFF-44 All-Mode interrogator.

b. ELINT System. The ELINT system will include one of the following: Raytheon Deutschland Advanced Radar Detection System (ARDS), BANC3 TSD-2000, or ETLA North America ELL-8385. These systems comprise of a modular, scalable software-defined radio (SDR) designed for airborne ELINT missions. The system can search, intercept, collect, geo-locate, analyze, store, and distribute wireless signals.

2. The highest level of classification of defense articles, components, and services included in this potential sale is SECRET.

3. If a technologically advanced adversary were to obtain knowledge of the specific hardware and software elements, the information could be used to develop countermeasures which might reduce weapon system effectiveness or be used in the development of a system with similar or advanced capabilities.

4. A determination has been made that Poland can provide the same degree of protection for the sensitive technology being released as the U.S. Government. This sale is necessary in furtherance of the U.S. foreign policy and national security objectives outlined in the Policy Justification.

5. All defense articles and services listed in this transmittal have been authorized for release and export to the Government of Poland.

[FR Doc. 2025-00141 Filed 1-7-25; 8:45 am]

BILLING CODE 6001-FR-P